DEPARTMENT OF HOMELAND SECURITY

Federal Emergency Management Agency

[Docket ID: FEMA-2017-0027; OMB No. 1660-0013]

Agency Information Collection Activities: Proposed Collection; Comment Request; Exemption of State-Owned Properties Under Self-Insurance Plan

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning the collection of information necessary to allow States to request an exemption from maintaining flood insurance on State-owned structures.

DATES: Comments must be submitted on or before August 28, 2017.

ADDRESSES: To avoid duplicate submissions to the docket, please use only one of the following means to submit comments:

(1) Online. Submit comments at www.regulations.gov under Docket ID FEMA-XXXX-XXXX. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Suzan Krowel, Insurance Examiner, Federal Insurance and Mitigation Administration, DHS/FEMA, at (202) 701-3701. You may contact the Records Management Division for copies of the proposed collection of information at email address: FEMA-Information-Collections-Management@fema.dhs.gov.

SUPPLEMENTARY INFORMATION: State-owned properties covered under an adequate State policy of self-insurance satisfactory to FEMA are not required to purchase flood insurance in accordance with Section 102(c)(1) of the Flood Disaster Protection Act of 1973, as amended (42 U.S.C. 4012a(c)(1)). NFIP regulations, 44 CFR part 75, establish the procedures by which a State insurance plans must meet to be found exempt from the requirement to purchase flood insurance coverage for State-owned structures and their contents. To be eligible for the exemption, State properties must be located in areas identified by the Administrator as A, AO, AH, A1-30, AE, AR, AR/A1-30, AR/AE, AR/AO, AR/AH, AR/A, A99, M, V, VO, V1-30, VE, and E zones, in which the sale of insurance has been made available.

Collection of Information

Title: Exemption of State-owned Properties Under Self-Insurance.

Type of Information Collection: Extension, without change, of a currently approved information collection.

OMB Number: 1660-0013.

FEMA Forms: None.

Abstract: Application for exemption must be made by the Governor or other duly authorized official of the State accompanied by sufficient supporting documentation which certifies that the plan of self-insurance upon which the application for exemption is based meets or exceeds the standards in NFIP regulations at 44 CFR 75.11.

Affected Public: State, Local or Tribal Government.

Number of Respondents: 20.

Number of Responses: 20.

Estimated Total Annual Burden Hours: 5.

Estimated Cost: The estimated annual cost to respondents for the hour burden is $8,547. There are no annual costs to respondents operations and maintenance costs for technical services. There is no annual start-up or capital costs. The cost to the Federal Government is $3,920.10.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: June 21, 2017.
Tammi Hines,
Records Management Program Chief (Acting), Mission Support, Federal Emergency Management Agency, Department of Homeland Security.

[FR Doc. 2017-13340 Filed 6-26-17; 8:45 am]

BILLING CODE 9111-52-P